DEPARTMENT OF THE TREASURY

Submission for OMB Review;

Comment Request

June 13, 2001

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before July 20, 2001 to be assured of consideration.

Internal Revenue Service (IRS)

OMB Number: 1545-0026.

Form Number: IRS Form 926.

Type of Review: Revision.

Title: Return by a U.S. Transferor of Property to a Foreign Corporation.

Description: U.S. persons file Form 926 to report the transfer of property to a foreign corporation and to report information required by section 367. The IRS uses Form 926 to determine if the gain, if any, must be recognized by the U.S. person.

Respondents: Business or other for-profit, Individuals or households.

Estimated Number of Respondents/Recordkeepers: 1,000.

Estimated Burden Hours Per Respondent/Recordkeeper:

Recordkeeping: 6 hr., 13 min.

Learning about the law or the form: 4 hr., 4 min.

Preparing and sending the form to the IRS: 4 hr., 21 min.

Frequency of Response: On occasion.

Estimated Total Reporting/Recordkeeping Burden: 14,640 hours.

OMB Number: 1545-0067.

Form Number: IRS Form 2555.

Type of Review: Extension.

Title: Foreign Earned Income.

Description: Form 2555 is used by U.S. citizens and resident aliens who qualify for the foreign earned income exclusion and/or the foreign housing exclusion or deduction. This information is used by the Service to determine if a taxpayer qualifies for the exclusion(s) or deduction.

Respondents: Individuals or households.

Estimated Number of Respondents/Recordkeepers: 286,955.

Estimated Burden Hours Per Respondent/Recordkeeper:

Recordkeeping: 1 hr., 52 min.

Learning about the law or the form: 26 min.

Preparing the form: 1 hr., 47 min.

Copying, assembling, and sending the form to the IRS: 49 min.

Frequency of Response: Annually.

Estimated Total Reporting/Recordkeeping Burden: 1,403,210 hours.

OMB Number: 1545-0409.

Form Number: IRS Forms 211 and 211(SP).

Type of Review: Revision.

Title: Application for Reward for Original Information (211); and Solicitud de Recompensa por Informacion Original (Spanish Version) (211(SP).

Description: Forms 211 and 211(SP) are the official forms used by persons requesting rewards for submitting information concerning alleged violations of the tax laws by other persons. Such rewards are authorized by Internal Revenue Code (IRC) 7623. The data is used to determine and pay rewards to those persons who voluntarily submit information.

Respondents: Individuals or households.

Estimated Number of Respondents: 11,200.

Estimated Burden Hours Per Respondent: 15 minutes for each form.

Frequency of Response: On occasion.

Estimated Total Reporting Burden: 2,800 hours.

OMB Number: 1545-0575.

Form Number: IRS Form 5330.

Type of Review: Extension.

Title: Return of Excise Taxes Related to Employee Benefit Plans.

Description: Code section 4971, 4972, 4973(a)(3), 4975, 4976, 4977, 4978, 4978A, 4978B, 4979, 4979A and 4980 impose various excise taxes in connection with employee benefit plans. Form 5330 is used to compute and collect these taxes.

Respondents: Individuals or households, Business or other for-profit.

Estimated Number of Respondents/Recordkeepers: 8,403.

Estimated Burden Hours Per Respondent/Recordkeeper:

Recordkeeping: 18 hr., 39 min.

Learning about the law or the form: 8 hr., 56 min.

Preparing and sending the form to the IRS: 9 hr., 37 min.

Frequency of Response: Annually.

Estimated Total Reporting/Recordkeeping Burden: 312,844 hours.

OMB Number: 1545-0597.

Form Number: IRS Form 4598.

Type of Review: Revision.

Title: Form W-2 or 1099 Not Received or Incorrect.

Description: Employers and/or payers are required to furnish Forms W-2 or 1099 to employees and other payees. This three part form is necessary for the resolution of taxpayers complaints concerning the non-receipt of or incorrect Forms W-2 or 1099.

Respondents: Individuals or households, Business or other for-profit, Farms, Federal Government, State, Local or Tribal Government.

Estimated Number of Respondents: 850,000.

Estimated Burden Hours Per Respondent: 15 minutes.

Frequency of Response: On occasion.

Estimated Total Reporting Burden: 212,500 hours.

OMB Number: 1545-0747.

Form Number: IRS Form 5498.

Type of Review: Extension.

Title: IRA Contribution Information.

Description: Form 5498 is used by trustees and issuers to report contributions to, and the fair market value of, an individual retirement arrangement.

Respondents: Business or other for-profit.

Estimated Number of Respondents/Recordkeepers: 81,208,141.

Estimated Burden Hours Per Respondent/Recordkeeper: 12 minutes.

Frequency of Response: Annually.

Estimated Total Reporting/Recordkeeping Burden: 16,241,629 hours.

OMB Number: 1545-0796.

Form Number: IRS Form 6524.

Type of Review: Extension.

Title: Office of Chief Counsel—Application.

Description: The Chief Counsel Application form provides data we deem critical for evaluating an attorney applicants qualifications such as LSAT score, bar admission status, type of work preference, law school, class standing. OF-306 does not provide this information.

Respondents: Individuals or households.

Estimated Number of Respondents: 3,000.

Estimated Burden Hours Per Respondent: 18 minutes.

Estimated Total Reporting Burden: 900 hour.

OMB Number: 1545-0814.

Regulation Project Number: EE-44-78 Final.

Type of Review: Extension.

Title: Cooperative Hospital Service Organizations.

Description: This regulation establishes the rules for cooperative hospital service organizations which seek tax-exempt status under section 501(e) of the Internal Revenue Code. Such an organization must keep records in order to show its cooperative nature and to establish compliance with other requirements in section 501(c).

Respondents: Not-for-profit institutions.

Estimated Number of Recordkeepers: 1.

Estimated Burden Hours Per Recordkeeper: 1 hour.

Estimated Total Recordkeeping Burden: 1 hour.

OMB Number: 1545-0820.

Regulation Project Number: EE-86-88 NPRM (Previously LR-279-81).

Type of Review: Extension.

Title: Incentive Stock Options.

Description: The affected public includes corporations that transfer stock to employees after 1979 pursuant to the exercise of a statutory stock option. The corporation must furnish the employee receiving the stock with a written statement describing the transfer. The statement will assist the employee in filing their tax return.

Respondents: Business or other for-profit.

Estimated Number of Respondents: 50,000.

Estimated Burden Hours Per Respondent: 20 minutes.

Estimated Total Reporting Burden: 16,650 hours.

OMB Number: 1545-0997.

Form Number: IRS Form 1099-S.

Type of Review: Extension.

Title: Proceeds From Real Estate Transactions.

Description: Form 1099-S is used by the real estate reporting person to report proceeds from a real estate transaction to the IRS.

Respondents: Individuals or households, Business or other for-profit.

Estimated Number of Respondents/Recordkeepers: 75,000.

Estimated Burden Hours Per Respondent/Recordkeepers: 8 minutes.

Frequency of Response: Annually.

Estimated Total Reporting/Recordkeeping Burden: 510,456 hours.

OMB Number: 1545-1153.

Regulation Project Number: PS-73-89 (TD 8370) Final.

Type of Review: Extension.

Title: Excise Tax on Chemicals That Deplete the Ozone Layer and on Products Containing Such Chemicals.

Description: Section 4681 imposes a tax on ozone-depleting chemicals sold or used by a manufacturer or importer thereof. A floor stocks tax is also imposed. This regulation provides reporting and recordkeeping rules.

Respondents: Business or other for-profit.

Estimated Number of Respondents/Recordkeepers: 150,316.

Estimated Burden Hours Per Respondent/Recordkeeper: 30 minutes.

Estimated Total Reporting/Recordkeeping Burden: 75,142 hours.

OMB Number: 1545-1622.

Form Number: IRS Form 8866.

Type of Review: Extension.

Title: Interest Computation Under the Look-Back Method for Property Depreciated Under the Income Forecast Method.

Description: Taxpayers depreciating property under the income forecast method and placed in service after September 13, 1995, must use Form 8866 to compute and report interest due or to be refunded under IRC 167(g)(2). The IRS uses Form 8866 to determine if the interest has been figured correctly.

Respondents: Individuals or households, Business or other for-profit.

Estimated Number of Respondents/Recordkeepers: 5,000.

Estimated Burden Hours Per Respondent/Recordkeeper:

Recordkeeping: 9 hr., 34 min.

Learning about the law or the form: 1 hr., 5 min.

Preparing, copying, assembling, and sending the form to the IRS: 1 hr., 18 min.

Frequency of Response: Annually.

Estimated Total Reporting/Recordkeeping Burden: 59,800 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-15535 Filed 6-19-01; 8:45 am].

BILLING CODE 4830-01-P